INTERNATIONAL TRADE COMMISSION

[USITC SE-16-013]

Government in the Sunshine Act Meeting Notice

AGENCY HOLDING THE MEETING: United States International Trade Commission

TIME AND DATE: April 21, 2016 at 1:00 p.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-1314 (Preliminary) (Phosphor Copper from Korea). The Commission is currently scheduled to complete and file its determination on April 25, 2016; views of the Commission are currently scheduled to be completed and filed on May 2, 2016.

5. Outstanding action jackets: None.

In accordance with Commission policy, subject matter listed above, not disposed of at the scheduled meeting, may be carried over to the agenda of the following meeting.

By order of the Commission.
Issued: April 13, 2016.
William R. Bishop,
Supervisory Hearings and Information Officer.

[FR Doc. 2016-09095 Filed 4-15-16; 11:15 am]

BILLING CODE 7020-02-P